FEDERAL TRADE COMMISSION

16 CFR Part 310

Notice of 30-Day Extension in Comment Period in the Review of the Telemarketing Sales Rule

AGENCY: Federal Trade Commission.

ACTION: Rule review, notice of extension of comment period.

SUMMARY: The Federal Trade Commission (“the Commission” or “FTC”) has extended the comment period by which comments must be submitted concerning the review of its Telemarketing Sales Rule (“the Rule” or “TSR”). This document informs prospective commenters of the change and sets a new date of May 30, 2000, for the end of the comment period.

DATES: Written comments will be received until the close of business on May 30, 2000.

ADDRESSES: Six paper copies of each paper and/or written comment should be submitted to the Office of the Secretary, Federal Trade Commission, Room 159, 600 Pennsylvania Avenue, NW., Washington, DC 20580. If possible, comments should also be submitted in electronic form. To encourage prompt and efficient review and dissemination of the comments to the public, all comments should also be submitted, if possible, in electronic form, on either a 5¼ or a 3½ inch computer disk, with a label on the disk stating the name of the commenter and the name and version of the word processing program used to create the document. (Programs based on DOS are preferred. Files from other operating systems should be submitted in ASCII text format to be accepted.) Individual members of the public filing comments need not submit multiple copies or comments in electronic form. Alternatively, the Commission will accept papers and comments submitted to the following email address: tsr@ftc.gov, provided the content of any papers or comments submitted by email is organized in sequentially numbered paragraphs. All submissions should be identified as “Telemarketing Review—Comment. FTC File No. P994414.”

Papers and written comments will be available for public inspection in accordance with the Freedom of Information Act, 5 U.S.C. 552, and Commission regulations, 16 CFR 4.9, on normal business days between the hours of 8:30 a.m. and 5:00 p.m. in Room 130, Federal Trade Commission, 600 Pennsylvania Avenue, NW., Washington, DC 20580. The Commission will make this notice and, to the extent possible, all papers or comments received in response to this notice available to the public through the Internet at the following address: www.ftc.gov.

FOR FURTHER INFORMATION CONTACT: Catherine Harrington-McBride (202) 326-2452, email cmcbride@ftc.gov; Karen Leonard (202) 326-3597, email kleonard@ftc.gov; or Carole Danielson (202) 326-3115, email cdanielson@ftc.gov, Division of Marketing Practices, Bureau of Consumer Products, Federal Trade Commission, 600 Pennsylvania Avenue, NW., Washington, DC 20580.

SUPPLEMENTARY INFORMATION: On February 28, 2000, the Commission published a request for comment on its Telemarketing Sales Rule.¹ The Telemarketing and Consumer Fraud and Abuse Prevention Act (“the Telemarketing Act” or “the Act”) directed the Commission to promulgate rules to protect consumers from deceptive telemarketing practices and other abusive telemarketing activities. In response to this directive, the Commission adopted the TSR, which requires telemarketers to make specific disclosures of material information; prohibits misrepresentations; sets limits on the times telemarketers may call consumers; prohibits calls to a consumer who has asked not be called again; and sets payment restrictions for the sale of certain goods and services. The comment period is currently scheduled to close on April 27, 2000.

¹ 65 FR 10428 (February 28, 2000).

Several stakeholders that participated in the original rulemaking proceeding and in the recent public forum focusing on the Rule's do-not-call provision have expressed concern that there will not be sufficient time before April 27 to complete their responses to the Commission's Request for Comment. They have asked that the comment period be extended to complete their data collection. The Commission is mindful of the need to deal with this matter expeditiously. However, the Commission also is aware that the issues raised are complex and believes that the enhancement of the record that will be achieved by extending the comment period far outweighs any harm that might be caused by the delay.

Accordingly, the Commission has decided to extend the comment period to May 30, 2000. This extension will provide sufficient time for commenters to prepare useful comments. This extension will not affect the date of the public forum to discuss the TSR's provisions nor the date by which applications to participate in the forum must be received. The public forum will continue to be held on July 27-28, 2000, and notification of interest in participating in the forum must be submitted in writing on or before June 16, 2000, to Carole I. Danielson, Division of Marketing Practices, Federal Trade Commission, 600 Pennsylvania Avenue, NW., Washington, DC 20580.

List of Subjects in 16 CFR 310

Telemarketing, Trade practices.

Authority: 15 U.S.C. 1601-1608.

By direction of the Commission.
Donald S. Clark,
Secretary.

[FR Doc. 00-11314 Filed 5-4-00; 8:45 am]

BILLING CODE 6750-01-M